ENVIRONMENTAL PROTECTION AGENCY

[ER-FRL-6650-1]

Environmental Impact Statements; Notice of Availability

Responsible Agency: Office of Federal Activities, General Information (202) 564-7167 or http://www.epa.gov/compliance/nepa/.

Weekly receipt of Environmental Impact Statements

Filed March 29, 2004 Through April 2, 2004

Pursuant to 40 CFR 1506.9.

EIS No. 040149, DRAFT EIS, AFS, AK, Resurrection Creek Stream and Riparian Restoration Project, Proposes to Accelerate the Recovery of Riparian Areas, Fish and Wildlife Habitat, Chugach National Forest, Seward Ranger District, Kenai Peninsula Borough, AK, Comment Period Ends: May 24, 2004, Contact: Dave Blanchet (907) 743-9538.

EIS No. 040150, FINAL EIS, SFW, CA, South Bay Salt Ponds Initial Stewardship Plan, To Maintain and Enhance the Biological and Physical Conditions, South San Francisco Bay, CA, Wait Period Ends: May 10, 2004, Contact: Marge Kolar (510) 792-0222.

EIS No. 040151, DRAFT EIS, AFS, OR, Crooked River National Grassland Vegetation Management/Grazing, Vegetation Treatments and Grazing Disposition, Ochoco National Forest, Jefferson County, OR, Comment Period Ends: May 24, 2004, Contact: Kristin Bail (541) 416-6648. This document is available on the Internet at: http://www.fs.fed.us/r6/centraloregon/projects/units/crooked.

EIS No. 040152, DRAFT EIS, COE, NM, The Closure of the Al Black Recreation Area at the Cochiti Lake Dam Outlet Works, Implementation, Sandoval County, NM, Comment Period Ends: May 24, 2004, Contact: Ernest Jahnke (505) 342-3416.

EIS No. 040153, DRAFT EIS, BLM, MT, Dillon Resource Management Plan, Provide Direction for Managing Public Lands within the Dillon Field Office, Implementation, Beaverhead and Madison Counties, MT, Comment Period Ends: July 12, 2004, Contact: Renee Johnson (406) 683-8016. This document is available on the Internet at: http://www.mt.blm.gov/dfo/rmp.

EIS No. 040154, FINAL EIS, NPS, PA, Lackawanna Heritage Valley a State and National Heritage Area, Management Action Plan, Implementation, Lackawanna, Luzerne, Wayne and Susquehanna Counties, PA, Wait Period Ends: May 10, 2004, Contact: Peter Samuel (315) 597-1848.

EIS No. 040155, FINAL EIS, EPA, CT, NY, Central and Western Long Island Sound Dredged Material Disposal Sites, Designation, CT and NY, Wait Period Ends: May 10, 2004, Contact: Jean Brochi (617) 918-1070.

EIS No. 040156, DRAFT EIS, AFS, UT, Wasatch Powderbird Guides Permit Renewal, Authorization to Continue Providing Guided Helicopter Skiing Activities on National Forest System (NFS) Land on the Wasatch-Cache and Uinta National Forests, Special-Use Permit (SUP), Provo and Salt Lake City, UT, Comment Period Ends: May 24, 2004, Contact: Steve Scad (801) 733-2689. This document is available on the Internet at: http//www.fs.fed.us/r4/wcnf/projects/decisions/index.shtm/.

EIS No. 040157, FINAL EIS, BLM, OR, Upper Siuslaw Late-Successional Reserve Restoration Plan, To Protect and Enhance Late-Successional and Old-Growth Forest Ecosystems, Eugene District Resource Management Plan, Northwest Forest Plan, Coast Range Mountains, Lane and Douglas Counties, OR, Wait Period Ends: May 10, 2004, Contact: Rich Colvin (541) 683-6669.

EIS No. 040158, DRAFT EIS, NOA, WA, ID, OR, CA, Pacific Coast Groundfish Fishery Management Plan, Amendment 16-3 Adopts Rebuild Plans for Bocaccio, Cowcod, Widow Rockfish and Yelloweye Rockfish, Maximum Sustainable Yield (MSY), Implementation, WA, OR, ID and CA, Comment Period Ends: May 24, 2004, Contact: Robert Lohn (206) 526-6150. This document is available on the Internet at: http://www.pcouncil.org.

EIS No. 040159, DRAFT EIS, FHW, WA, WA-99 Alaskan Way Viaduct and Seawall Replacement Project, To Provide Transportation Facility and Seawall with Improved Earthquake Resistence, U.S. Army COE Section 10 and 404 Permits, Seattle WA , Comment Period Ends: June 1, 2004, Contact: Mary Gray (360) 753-9487.

EIS No. 040160, FINAL EIS, NOA, Framework Adjustment 4 to the Atlantic Mackeral, Squid, and Bullfish Fishery Management Plan, To Extend the Moratorium to the Illex Fishery, Mid-Atlantic Fishery Management Council, Wait Period Ends: May 10, 2004, Contact: George H. Darcy (301) 713-1622.

EIS No. 040161, DRAFT EIS, COE, CA, Hamilton City Flood Damage Reduction and Ecosystem Restoration, Propose to Increase Flood Protection and Restore the Ecosystem, Sacramento River, Glenn County, CA, Comment Period Ends: May 24, 2004, Contact: Erin Taylor (916) 557-5140.

EIS No. 040162, FINAL EIS, COE, NC, Bogue Inlet Channel Erosion Response Project, Relocation of the Main Ebb Channel to Eliminate the Erosive Impact to the Town of Emerald Isle, Carteret and Onslow Counties, NC, Wait Period Ends: May 24, 2004, Contact: Mickey Sugg (910) 251-4811.

Dated: April 6, 2004.
Ken Mittelholtz,
Environmental Protection Specialist, Office of Federal Activities.

[FR Doc. 04-8099 Filed 4-8-04; 8:45 am]

BILLING CODE 6560-50-P